DEPARTMENT OF HEALTH AND HUMAN SERVICES

Meeting of the National Vaccine Advisory Committee

AGENCY: National Vaccine Program Office, Office of the Assistant Secretary for Health, Office of the Secretary, Department of Health and Human Services.

ACTION: Notice.

SUMMARY: As stipulated by the Federal Advisory Committee Act, the Department of Health and Human Services (HHS) is hereby giving notice that the National Vaccine Advisory Committee (NVAC) will hold a meeting on June 9-10, 2015. The meeting is open to the public. However, pre-registration is required for both public attendance and public comment. Individuals who wish to attend the meeting and/or participate in the public comment session should register at http://www.hhs.gov/nvpo/nvac. Participants may also register by emailing nvpo@hhs.gov or by calling 202-690-5566 and providing their name, organization, and email address.

DATES: The meeting will be held on June 9-10, 2015. The meeting times and agenda will be posted on the NVAC Web site at http://www.hhs.gov/nvpo/nvac as soon as they become available.

ADDRESSES: U.S. Department of Health and Human Services, Hubert H. Humphrey Building, Room 800, 200 Independence Avenue SW., Washington, DC 20201.

The meeting can also be accessed through a live webcast the day of the meeting. For more information, visit http://www.hhs.gov/nvpo/nvac/meetings/upcomingmeetings/index.html.

FOR FURTHER INFORMATION CONTACT: National Vaccine Program Office, U.S. Department of Health and Human Services, Room 715-H, Hubert H. Humphrey Building, 200 Independence Avenue SW., Washington, DC 20201. Phone: (202) 690-5566; email: nvpo@hhs.gov.

SUPPLEMENTARY INFORMATION: Pursuant to Section 2101 of the Public Health Service Act (42 U.S.C. 300aa-1), the Secretary of Health and Human Services was mandated to establish the National Vaccine Program to achieve optimal prevention of human infectious diseases through immunization and to achieve optimal prevention against adverse reactions to vaccines. The NVAC was established to provide advice and make recommendations to the Director of the National Vaccine Program on matters related to the Program's responsibilities. The Assistant Secretary for Health serves as Director of the National Vaccine Program.

The June NVAC meeting will include the presentation of recommendations from several of the NVAC working groups for deliberation and vote. The Vaccine Confidence Working Group will present their report and recommendations for measuring and evaluating how confidence in vaccines impacts the optimal use of recommended childhood vaccines in the United States. Following an update on current efforts by national stakeholders to improve Human Papilloma Virus (HPV) vaccine uptake among adolescents, the HPV working group will also present their report and recommendations identifying existing best practices to increase the use of the HPV vaccine in young adolescents. NVAC will review analyses and proposed recommendations on how vaccines could play more prominently in efforts described in the President's National Strategy and Action Plan to Combat Antibiotic Resistant Bacteria.

An overview of the Vaccine Safety Research Agenda that was released on the NVPO Web site in February 2015 will also be provided. The Vaccine Safety Research Agenda outlines the efforts of federal agencies on vaccine safety and the ongoing and planned associated scientific activities and interagency coordination that contribute to the safety system. Informational presentations will also be provided to inform NVAC members of recent developments impacting the vaccine landscape including Congressional efforts to support the research and development of new vaccine products through the 21st Century Cures Initiative. More information on the meeting agenda will be posted prior to the meeting on the NVAC Web site: http://www.hhs.gov/nvpo/nvac.

Public attendance at the meeting is limited to the available space. Individuals who plan to attend and need special assistance, such as sign language interpretation or other reasonable accommodations, should notify the National Vaccine Program Office at the address/phone listed above at least one week prior to the meeting. For those unable to attend in person, a live webcast will be available. More information on registration and accessing the webcast can be found at http://www.hhs.gov/nvpo/nvac/meetings/upcomingmeetings/index.html.

Members of the public will have the opportunity to provide comments at the NVAC meeting during the public comment periods designated on the agenda. Public comments made during the meeting will be limited to three minutes per person to ensure time is allotted for all those wishing to speak. Individuals are also welcome to submit their written comments. Written comments should not exceed three pages in length. Individuals submitting written comments should email their comments to the National Vaccine Program Office (nvpo@hhs.gov) at least five business days prior to the meeting.

Dated: May 4, 2015.
Bruce Gellin,
Executive Secretary, National Vaccine Advisory Committee, Deputy Assistant Secretary for Health, Director, National Vaccine Program Office.

[FR Doc. 2015-11476 Filed 5-12-15; 8:45 am]

BILLING CODE 4150-44-P